DEPARTMENT OF COMMERCE

International Trade Administration

[A-560-838]

Polyester Textured Yarn From Indonesia: Notice of Court Decision Not in Harmony With the Final Determination of Antidumping Investigation; Notice of Amended Final Determination; Notice of Amended Order

AGENCY: Enforcement and Compliance, International Trade Administration, Department of Commerce.

SUMMARY: On October 11, 2024, the U.S. Court of International Trade (CIT) issued its final judgment in PT. Asia Pacific Fibers Tbk. v. United States and Unifi Manufacturing, Inc. and Nan Ya Plastics Corporation, Court no. 22-00007, sustaining the U.S. Department of Commerce's (Commerce) remand determination pertaining to the less-than-fair-value (LTFV) investigation on Polyester Textured Yarn from Indonesia covering the period October 1, 2019, through September 30, 2020. Commerce is notifying the public that the CIT's final judgment is not in harmony with Commerce's final determination in the investigation, and Commerce is amending the final determination and the resulting AD order with respect to the dumping margins assigned to PT. Asia Pacific Fibers Tbk (Asia Pacific) and all other producers and exporters of subject merchandise.

DATES: Applicable October 21, 2024.

FOR FURTHER INFORMATION CONTACT: Peter Shaw, AD/CVD Operations, Office VII, Enforcement and Compliance, International Trade Administration, U.S. Department of Commerce, 1401 Constitution Avenue NW, Washington, DC 20230; telephone: (202) 482-0697.

SUPPLEMENTARY INFORMATION:

Background

On October 25, 2021, Commerce published its Final Determination in the LTFV investigation of Polyester Textured Yarn from Indonesia.¹ Commerce concluded that Asia Pacific failed to cooperate to the best of its ability and thus determined the use of an adverse inference in selecting from among the facts available (AFA) was warranted in determining the rate for Asia Pacific. Commerce subsequently published in the Federal Register the AD order on polyester textured yarn from Indonesia.²

¹ See Polyester Textured Yarn from Indonesia: Final Affirmative Determination of Sales at Less Than Fair Value, 86 FR 58875 (October 25, 2021) (Final Determination), and accompanying Issues and Decision Memorandum.

² See Polyester Textured Yarn from Indonesia, Malaysia, Thailand, and the Socialist Republic of Vietnam: Antidumping Duty Orders, 86 FR 71031 (December 14, 2021) (Order).

Asia Pacific appealed Commerce's Final Determination. On December 12, 2023, the CIT remanded the Final Determination.³ Specifically, the CIT remanded to Commerce to prepare a verification report and to provide Asia Pacific a reasonable opportunity to place information on the record addressing any deficiencies found by Commerce in the respondent's verification questionnaire responses and all parties the opportunity to file case briefs.⁴

³ See PT. Asia Pac. Fibers TBK v. United States, 673 F. Supp. 3d 1320 (CIT 2023).

⁴ Id., 673 F. Supp. 3d at 1333.

In its final remand redetermination, issued August 8, 2024, Commerce reconsidered its Final Determination, determining that AFA was no longer warranted for Asia Pacific and recalculated the estimated weighted-average dumping margin for Asia Pacific.⁵ The CIT sustained Commerce's final redetermination.⁶ Asia Pacific's dumping margin is now 9.20 percent. Consequently, the dumping margin applicable to all other companies has changed and is now 8.72 percent.

⁵ See Final Results of Redetermination Pursuant to Court Remand, PT. Asia Pacific Fibers TBK v. United States, 673 F. Supp. 3d 1320 (CIT 2023), dated August 8, 2024 (Final Remand), at 6, available at https://access.trade.gov/public/FinalRemandRedetermination.aspx.

⁶ See PT. Asia Pac. Fibers TBK v. United States, No. 22-00007, Slip Op. 24-113 (CIT October 11, 2024).

Timken Notice

In its decision in Timken,⁷ as clarified by Diamond Sawblades,⁸ the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's October 11, 2024, judgment constitutes a final decision of the CIT that is not in harmony with Commerce's Final Determination and Order. Thus, this notice is published in fulfillment of the publication requirements of Timken.

⁷ See Timken Co. v. United States, 893 F.2d 337 (Fed. Cir. 1990) (Timken).

⁸ See Diamond Sawblades Manufacturers Coalition v. United States, 626 F.3d 1374 (Fed. Cir. 2010) (Diamond Sawblades).

Amended Final Determination and Order

Because there is now a final court judgment, Commerce is amending its Final Determination and Order to revise the dumping margins assigned to Asia Pacific and all other producers and exporters of subject merchandise, as follows:

Producer or exporter | Weighted- average dumping margin (percent)
PT. Asia Pacific Fibers Tbk | 9.20
All Others | 8.72

Cash Deposit Requirements

Because Asia Pacific does not have a superseding cash deposit rate, i.e., there have been no final results published in a subsequent review of Asia Pacific, and because of the change to the rate assigned to all other producers and exporters of subject merchandise, Commerce will issue revised cash deposit instructions to U.S. Customs and Border Protection (CBP).

Liquidation of Suspended Entries

At this time, Commerce remains enjoined by CIT order from liquidating entries that were produced or exported by Asia Pacific, that were subject of Commerce's Final Determination, and subject to the Order, and that were entered, or withdrawn from warehouse, for consumption during the periods of June 3, 2021 through November 29, 2021 and December 13, 2021 through November 30, 2022. These entries will remain enjoined pursuant to the terms of the injunction during the pendency of any appeals process.

In the event the CIT's ruling is not appealed, or, if appealed, upheld by a final and conclusive court decision, Commerce intends to instruct CBP to assess antidumping duties on unliquidated entries of subject merchandise produced by or exported by Asia Pacific in accordance with 19 CFR 351.212(b). We will instruct CBP to assess antidumping duties on all appropriate entries covered by this investigation when the importer-specific ad valorem assessment rate is not zero or de minimis. Where an importer-specific ad valorem assessment rate is zero or de minimis,⁹ we will instruct CBP to liquidate the appropriate entries without regard to antidumping duties.

⁹ See 19 CFR 351.106(c)(2).

Notification to Interested Parties

This notice is issued and published in accordance with sections 516A(c) and (e) and 777(i)(1) of the Act.

Dated: November 4, 2024.
Abdelali Elouaradia,
Deputy Assistant Secretary for Enforcement and Compliance.

[FR Doc. 2024-25963 Filed 11-7-24; 8:45 am]

BILLING CODE 3510-DS-P